DEPARTMENT OF AGRICULTURE

Submission for OMB Review; Comment Request

February 19, 2021.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by March 26, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: Special Nutrition Programs Quick Response Surveys (SNP QRS).

OMB Control Number: 0584-0613.

Summary of Collection: This generic clearance, which allows the Food and Nutrition Service (FNS) to quickly collect and analyze specific information from State and local administrators of the Special Nutrition Programs (SNP), includes two data collections: (1) An annual sample frame data collection and (2) quick response surveys. FNS conducts lengthy, large, and complex studies on broad topics about the SNPs, which often take several years to complete. The Quick Response Surveys provides a mechanism for succinct, quick-turnaround studies to complement the larger SNP studies. Collecting sample frame data on an annual basis provides FNS the flexibility to conduct these shorter, quick-turnaround studies. This generic clearance enables FNS to administer the SNPs more effectively by providing a mechanism for rapidly collecting current information on specific time-sensitive features or issues.

Need and Use of the Information: This collection is necessary to collect and analyze specific information from State and local administrators of the SNPs in a timely manner. FNS will collect data from State, Local, and Tribal governments and from business (both profit and non-profit organizations) through these studies. FNS will use the data collected for the sample frames to identify the universe of entities that can be sampled for the quick-response surveys. These surveys will collect information from key administrators of the SNPs at the State, local, and site level in response to various program and research questions resulting from the larger and more complex SNP studies. The data collected from these quick turnaround studies will be used to answer policy and implementation questions posed by the larger studies and will enable FNS to monitor program funding, comply with statutes and regulations, and adopt program changes.

Description of Respondents: State, Local, or Tribal Government and businesses (for-profit and not-for-profit institutions).

Number of Respondents: 108,597 over the three-year approval.

Frequency of Responses: Reporting: On Occasion; Annually.

Total Burden Hours: 31,335 over the three-year approval.

Ruth Brown,
Departmental Information Collection Clearance Officer.

[FR Doc. 2021-03813 Filed 2-23-21; 8:45 am]

BILLING CODE 3410-30-P